DEPARTMENT OF JUSTICE

Antitrust Division

Notice Pursuant to the National Cooperative Research and Production Act of 1993—American Society of Sanitary Engineering

Notice is hereby given that, on September 15, 2004, pursuant to Section 6(a) of the National Cooperative Research and Production Act of 1993, 15 U.S.C. 4301 et seq. (“the Act”), the American Society of Sanitary Engineering (“ASSE”) has filed written notifications simultaneously with the Attorney General and the Federal Trade Commission disclosing (1) The name and principal place of business of the standards development organization and (2) The nature and scope of its standards development activities. The notifications were filed for the purpose of invoking the Act's provisions limiting the recovery of antitrust plaintiffs to actual damages under specified circumstances.

Pursuant to Section 6(b) of the Act, the name and principal place of business of the standards development organization is: American Society of Sanitary Engineering, Westlake, OH. The nature and scope of ASSE's standards development activities are: the creation, promotion and issuance of standards and seals of approval with respect to plumbing, water supply, sewage disposal, water purification, drainage, fire protection and medical gasses.

Dorothy B. Fountain,
Deputy Director of Operations, Antitrust Division.

[FR Doc. 04-25079 Filed 11-9-04; 8:45 am]

BILLING CODE 4410-11-M